DEPARTMENT OF THE INTERIOR

Minerals Management Service

Coastal Impact Assistance Program Allocations, Fiscal Years 2007-2008

AGENCY: Minerals Management Service, Interior.

ACTION: Notice of availability of recipient allocation amounts for fiscal years 2007 and 2008.

SUMMARY: The Minerals Management Service (MMS) is issuing this notice to advise the public of the availability of the individual allocation amounts available to each of the 73 eligible recipients of the Coastal Impact Assistance Program (CIAP). The amounts are an important piece of information to be used by the States and Coastal Political Subdivisions in the completion of CIAP grant applications.

FOR FURTHER INFORMATION CONTACT: Ms. Colleen Benner, Minerals Management Service, 381 Elden Street, Mail Stop 4040, Herndon, Virginia 20170. You may also contact Ms. Benner by telephone at (703) 787-1710.

SUPPLEMENTARY INFORMATION: The Energy Policy Act of 2005 (Act) has created CIAP by amending Section 31 of the Outer Continental Shelf Lands Act (43 U.S.C. 1356(a)). Under the provisions of the Act, the authority and responsibility for the management of CIAP is vested in the Secretary of the Interior (Secretary). The Secretary has delegated this authority and responsibility to MMS. In the February 16, 2007, continuing resolution, Congress approved a 3 percent appropriation of the CIAP funds to be used by MMS to administer the program. Under Section 384 of the Act, MMS shall disburse $250 million for each fiscal year 2007 through 2010 to eligible producing States (State) and coastal political subdivisions (CPS). The funds allocated to each State are based on the proportion of qualified Outer Continental Shelf (OCS) revenues offshore the individual State to total qualified OCS revenues from all States. In order to receive CIAP funds, States are required to submit a coastal impact assistance plan (Plan) that MMS must approve prior to disbursing any funds. All funds shall be disbursed through a grant process. The guidance has been developed by MMS to provide the information necessary for States to develop a Plan and submit it to MMS. The allotment amounts and guidelines may be found on the MMS Web site at http://www.mms.gov/offshore/CIAPmain.htm.

Dated: March 28, 2007.
R. M. “Johnnie” Burton,
Director, Minerals Management Service.

[FR Doc. E7-7221 Filed 4-16-07; 8:45 am]

BILLING CODE 4310-MR-P